DEPARTMENT OF AGRICULTURE

Animal and Plant Health Inspection Service

[Docket No. APHIS-2015-0057]

Importation, Interstate Movement, and Environmental Release of Certain Genetically Engineered Organisms; Public Meetings

AGENCY: Animal and Plant Health Inspection Service, USDA.

ACTION: Notice of public meetings.

SUMMARY: We are advising the public that the Animal and Plant Health Inspection Service is hosting a series of public meetings to provide the public with an opportunity to offer comments on proposed revisions to its regulations regarding the importation, interstate movement, and environmental release of certain genetically engineered organisms.

DATES: The public meetings will be held in Missouri on June 6, 2017; in California on June 13, 2017; and in Maryland on June 16, 2017. The public meetings will be held from 9 a.m. to 12 p.m. local time each day, with check-in beginning at 8:30 a.m.

ADDRESSES: The public meetings will be held at the following locations:

• Missouri: APHIS Center for Animal Welfare, 6501 Beacon Drive, Kansas City, MO 64133;

• California: University of California (UC) Davis Conference Center, 550 Alumni Lane, Davis, CA 95616; and

• Maryland: USDA Center at Riverside, 4700 River Road, Riverdale, MD 20737.

FOR FURTHER INFORMATION CONTACT: Mr. Richard George, Supervisory Communication Specialist, Policy Coordination Programs, Biotechnology Regulatory Services, APHIS, 4700 River Road, Unit 147, Riverdale, MD 20737-1238; (301) 851-3904.

SUPPLEMENTARY INFORMATION: The Animal and Plant Health Inspection Service (APHIS) will hold a series of public meetings on its proposed rule regarding revisions to the regulations concerning the importation, interstate movement, and environmental release of certain genetically engineered organisms. The proposed rulemaking was published in the Federal Register on January 19, 2017 (82 FR 7008-7039, Docket No. APHIS-2015-0057). The meetings will be held in various locations to facilitate attendance.

A representative of APHIS will preside at the meetings. Any interested party may appear and be heard in person, or through an attorney or other representative. We are interested in obtaining the views of the public on all aspects of the proposed rule. A simultaneous webcast will also be made available for those who are unable to attend the meeting in person. Those planning to attend either in person or via the webcast are asked to register in advance. Instructions for registering, accessing the webcast, and submitting written comments are available at https://www.regonline.com/builder/site/Default.aspx?EventID=1961632.

Done in Washington, DC, this 12th day of May 2017.
Michael C. Gregoire,
Acting Administrator, Animal and Plant Health Inspection Service.

[FR Doc. 2017-10062 Filed 5-17-17; 8:45 am]

BILLING CODE 3410-34-P